DEPARTMENT OF EDUCATION

Office of Innovation and Improvement (OII) Overview Information, Ready-To-Learn Television Program; Notice Inviting Applications for New Awards for Fiscal Year (FY) 2005

Catalog of Federal Domestic Assistance (CFDA) Numbers: 84.295A and 84.295B.

Dates: Applications Available: March 15, 2005.

Deadline for Notice of Intent to Apply: April 13, 2005.

Deadline for Transmittal of Applications: May 13, 2005.

Deadline for Intergovernmental Review: July 12, 2005.

Eligible Applicants: To receive a cooperative agreement under this competition, an entity shall be a public telecommunications entity that is able to demonstrate each of the following:

(A) A capacity to develop and nationally distribute educational and instructional television programming of high quality that is accessible by a large majority of disadvantaged preschool and elementary school children;

(B) A capacity to contract with the producers of children's television programming for the purpose of developing educational television programming of high quality;

(C) A capacity, consistent with the entity's mission and nonprofit nature, to negotiate such contracts in a manner that returns to the entity an appropriate share of any ancillary income from sales of any program-related products; and

(D) A capacity to localize programming and materials to meet specific State and local needs and to provide educational outreach at the local level.

Note: The term public telecommunications entity means any enterprise which (a) is a public broadcast station or a noncommercial telecommunications entity; and (b) disseminates public telecommunications services to the public.

Estimated Available Funds: $23,312,000.

Estimated Range of Awards: Programming Projects —$10,000,000—$20,000,000; Outreach Project—$2,000,000-$4,000,000.

Estimated Average Size of Awards: Programming Projects—$10,000,000; Outreach Project—$3,500,000.

Estimated Number of Awards: Programming Projects—1-2; Outreach Project—1.

Note: The Department is not bound by any estimates in this notice.

Project Period: Up to 60 months.

Full Text of Announcement

I. Funding Opportunity Description

Purpose of Program: The Ready-To-Learn (RTL) Television program supports awards to: (1) Develop, produce and distribute educational and instructional video programming for preschool and early elementary school children and their parents in order to facilitate academic achievement; (2) facilitate the development of educational programming for preschool and elementary school children and the accompanying support materials and services that promote the effective use of such programming; (3) facilitate the development of programming and digital content containing RTL-based children's programming and resources for parents and caregivers that is specially designed for nationwide distribution over public television stations' digital broadcasting channels and the Internet; (4) contract with entities, such as public telecommunications entities, so that programs developed are disseminated and distributed to the widest possible audience appropriate to be served by the programming, and through the use of the most appropriate distribution technologies; and (5) develop and disseminate education and training materials, including interactive programs and programs adaptable to distance learning technologies that are designed to (a) promote school readiness; and (b) promote the effective use of materials developed through the program among parents, teachers, Head Start providers, Even Start providers, providers of family literacy services, child care providers, early childhood development personnel, elementary school teachers, public librarians, and after school program personnel caring for preschool and elementary school children.

The Department will hold two separate competitions under this program. Both programming and outreach grantees will be expected to collaborate on RTL activities. Eligible applicants may apply for grants under programming projects (CFDA No. 84.295A) and outreach projects (CFDA No. 84.295B).

Priorities: This competition includes two absolute priorities and one competitive preference priority that are explained in the following paragraphs.

We are establishing these priorities for the FY 2005 grant competition only, in accordance with section 437(d)(1) of the General Education Provisions Act.

Absolute Priorities: For FY 2005 these priorities are absolute priorities. Under 34 CFR 75.105(c)(3) we consider only applications that meet these priorities. Applicants may choose to apply under Absolute Priority 1 or Absolute Priority 2 or both.

These priorities are:

Absolute Priority 1—Programming Grants (CFDA No. 84.295A): This priority supports projects designed to develop, produce and distribute age appropriate educational video programming and curricula that employ scientifically based reading research for children ages two through eight years old and their parents and educators. Applicants must demonstrate how they will create partnerships to develop and produce multiple series within each proposal. Under this absolute priority, applicants may develop new programming as well as continuations of existing programming that meets the stated criteria.

Applications must—

(a) Describe how educational programming developed using RTL funds will target low-income children and families. The term low-income children is defined on the basis of the poverty criteria set out in section 1113(a)(5) of the Elementary and Secondary Education Act of 1965 (ESEA), as amended by the No Child Left Behind Act of 2001 (NCLB). Those criteria are as follows: living below the poverty level, eligibility for free or reduced price lunches under the Richard B. Russell National School Lunch Act, living in a family receiving funding under the State program funded under part A of title IV of the Social Security Act, or eligibility to receive medical services under the Medicaid program.

(b) Describe how scientifically based reading research will be used to inform educational programming developed using RTL funds, and how scientifically based reading instruction techniques and age appropriate academic content will be incorporated into the proposed programming to facilitate improved academic outcomes for children, including children from low-income backgrounds.

(c) Demonstrate how new technologies will be utilized to ensure that educational programming developed using RTL funds reaches a wide audience in an efficient and cost-effective manner. The applicant must include a plan for the national distribution of digital programming content that includes, but is not limited to, low-income children and families.

(d) Include as key personnel an expert in scientifically based reading instruction who will devote no less than 25% of his or her time to the overall guidance and direction of the program. The applicant will be required to establish an advisory board for each series composed of early childhood, media, scientifically based reading research and other relevant experts as programming requires who will provide advice on the age appropriateness of content and the development of related curricula and materials.

Absolute Priority 2—Outreach Grants (CFDA No. 84.295B): This priority supports a project that will develop a national outreach plan and targeted local strategies that promote the programming content developed using RTL funds. The outreach shall be designed to reach children ages two through eight years old, their parents and educators. The outreach plan will support the programming goal of scientifically based reading instruction. Outreach activities must address all RTL funded shows, including shows funded under previous RTL awards and new shows, which are consistent with Absolute Priority One of this notice. Both national and local campaigns must be conducted and evaluated.

The outreach plan must be two-fold—

1. National Campaign. The national campaign must include a national outreach with unified RTL messages and strategies that support the goal of scientifically based reading instruction. The applicant must—

(a) Develop a partnership plan that leverages the outreach available for the program through collaborative efforts that may include local educational agencies, State educational agencies, Head Start centers, Even Start programs, early childhood development entities, public libraries, after-school programs, faith-based groups, Extension Service programs, pre-kindergarten programs, child care providers, and providers of family literacy services.

(b) Develop, manage and maintain Web sites for children, parents and educators to support outreach and that links the programming activities of all RTL shows.

(c) Include a description of a national marketing plan for all RTL shows that targets parents, elementary classroom teachers and early childhood educators. The plan should include strategies for embedding educational programming developed using RTL funds into other appropriate television series, movies, and videos for both children and adults.

(d) Establish an advisory board that will provide advice on the age appropriateness of outreach content and the development of curricula and materials related to programming.

2. Targeted Local Campaigns. The applicant shall propose a systematic outreach campaign at the local level that targets low-income children and their families. The term low-income children is defined on the basis of the poverty criteria set out in section 1113(a)(5) of the ESEA, as amended by NCLB. Those criteria are as follows: living below the poverty level, eligibility for a free or reduced price lunches under the Richard B. Russell National School Lunch Act, living in a family receiving funding under the State program funded under Part A of title IV of the Social Security Act, or eligibility to receive medical services under the Medicaid program.

The applicant must—

(a) Describe how new technologies, where appropriate, will be utilized to deliver curricula, ancillary materials, as well as how such technologies will be used to support program-related outreach activities for all shows developed using RTL funds.

(b) Describe how the applicant will conduct public awareness/advertising campaigns for all shows developed using RTL funds that target the needs of low-income children and families.

The applicant will evaluate outreach through a market/survey evaluation to determine the percentage of parents and educators randomly surveyed who participated in the public awareness campaign and either co-viewed programs developed using RTL funds with their children/students for the first time or increased co-viewing.

Competitive Preference Priority—Programming Grants (CFDA No. 84.295A): This priority is from the notice of final priority for Scientifically Based Evaluation Methods, published in the Federal Register on January 25, 2005 (70 FR 3586). Within Absolute Priority 1 (Programming Grants), we give competitive preference to applications that address the following priority. Under 34 CFR 75.105(c)(2)(i) we award up to an additional 25 points to an application, depending on the extent to which the application meets this priority.

Note: In awarding additional points to applications that address this competitive preference priority, we will consider only those applications that have top-ranked scores on the basis of the Selection Criteria in Section V. (see Section V. 1. Selection Criteria in this notice).

The Secretary establishes a priority for projects proposing an evaluation plan that is based on rigorous scientifically based research methods to assess the effectiveness of a particular intervention. The Secretary intends that this priority will allow program participants and the Department to determine whether the project produces meaningful effects on student achievement or teacher performance.

Evaluation methods using an experimental design are best for determining project effectiveness. Thus, when feasible, the project must use an experimental design under which participants—e.g., students, teachers, classrooms, or schools—are randomly assigned to participate in the project activities being evaluated or to a control group that does not participate in the project activities being evaluated.

If random assignment is not feasible, the project may use a quasi-experimental design with carefully matched comparison conditions. This alternative design attempts to approximate a randomly assigned control group by matching participants—e.g., students, teachers, classrooms, or schools—with non-participants having similar pre-program characteristics.

In cases where random assignment is not possible and participation in the intervention is determined by a specified cutting point on a quantified continuum of scores, regression discontinuity designs may be employed.

For projects that are focused on special populations in which sufficient numbers of participants are not available to support random assignment or matched comparison group designs, single-subject designs such as multiple baseline or treatment-reversal or interrupted time series that are capable of demonstrating causal relationships can be employed.

Proposed evaluation strategies that use neither experimental designs with random assignment nor quasi-experimental designs using a matched comparison group nor regression discontinuity designs will not be considered responsive to the priority when sufficient numbers of participants are available to support these designs. Evaluation strategies that involve too small a number of participants to support group designs must be capable of demonstrating the causal effects of an intervention or program on those participants.

The proposed evaluation plan must describe how the project evaluator will collect—before the project intervention commences and after it ends—valid and reliable data that measure the impact of participation in the program or in the comparison group.

If the priority is used as a competitive preference priority, points awarded under this priority will be determined by the quality of the proposed evaluation method. In determining the quality of the evaluation method, we will consider the extent to which the applicant presents a feasible, credible plan that includes the following:

(1) The type of design to be used (that is, random assignment or matched comparison). If matched comparison, include in the plan a discussion of why random assignment is not feasible.

(2) Outcomes to be measured.

(3) A discussion of how the applicant plans to assign students, teachers, classrooms, or schools to the project and control group or match them for comparison with other students, teachers, classrooms, or schools.

(4) A proposed evaluator, preferably independent, with the necessary background and technical expertise to carry out the proposed evaluation. An independent evaluator does not have any authority over the project and is not involved in its implementation.

In general, depending on the implemented program or project, under a competitive preference priority, random assignment evaluation methods will receive more points than matched comparison evaluation methods.

Definitions

As used in this notice—

Scientifically based research (section 9101(37), of the ESEA as amended by NCLB), 20 U.S.C. 7801(37)):

(A) Means research that involves the application of rigorous, systematic, and objective procedures to obtain reliable and valid knowledge relevant to education activities and programs; and

(B) Includes research that—

(i) Employs systematic, empirical methods that draw on observation or experiment;

(ii) Involves rigorous data analyses that are adequate to test the stated hypotheses and justify the general conclusions drawn;

(iii) Relies on measurements or observational methods that provide reliable and valid data across evaluators and observers, across multiple measurements and observations, and across studies by the same or different investigators;

(iv) Is evaluated using experimental or quasi-experimental designs in which individuals entities, programs, or activities are assigned to different conditions and with appropriate controls to evaluate the effects of the condition of interest, with a preference for random-assignment experiments, or other designs to the extent that those designs contain within-condition or across-condition controls;

(v) Ensures that experimental studies are presented in sufficient detail and clarity to allow for replication or, at a minimum, offer the opportunity to build systematically on their findings; and

(vi) Has been accepted by a peer-reviewed journal or approved by a panel of independent experts through a comparably rigorous, objective, and scientific review.

Random assignment or experimental design means random assignment of students, teachers, classrooms, or schools to participate in a project being evaluated (treatment group) or not participate in the project (control group). The effect of the project is the difference in outcomes between the treatment and control groups.

Quasi experimental designs include several designs that attempt to approximate a random assignment design.

Carefully matched comparison groups design means a quasi-experimental design in which project participants are matched with non-participants based on key characteristics that are thought to be related to the outcome.

Regression discontinuity design means a quasi-experimental design that closely approximates an experimental design. In a regression discontinuity design, participants are assigned to a treatment or control group based on a numerical rating or score of a variable unrelated to the treatment such as the rating of an application for funding. Eligible students, teachers, classrooms, or schools above a certain score (“cut score”) are assigned to the treatment group and those below the score are assigned to the control group. In the case of the scores of applicants' proposals for funding, the “cut score” is established at the point where the program funds available are exhausted.

Single subject design means a design that relies on the comparison of treatment effects on a single subject or group of single subjects. There is little confidence that findings based on this design would be the same for other members of the population.

Treatment reversal design means a single subject design in which a pre-treatment or baseline outcome measurement is compared with a post-treatment measure. Treatment would then be stopped for a period of time, a second baseline measure of the outcome would be taken, followed by a second application of the treatment or a different treatment. For example, this design might be used to evaluate a behavior modification program for disabled students with behavior disorders.

Multiple baseline design means a single subject design to address concerns about the effects of normal development, timing of the treatment, and amount of the treatment with treatment-reversal designs by using a varying time schedule for introduction of the treatment and/or treatments of different lengths or intensity.

Interrupted time series design means a quasi-experimental design in which the outcome of interest is measured multiple times before and after the treatment for program participants only.

Waiver of Proposed Rulemaking: Under the Administrative Procedure Act (5 U.S.C. 553) the Department generally offers interested parties the opportunity to comment on absolute priorities. Section 437(d)(1) of the General Education Provisions Act, however, exempts from this requirement rules that apply to the first competition under a new or substantially revised program authority. This is the first competition under the RTL program, which was substantially revised by the No Child Left Behind Act of 2001. These absolute priorities will apply to the FY 2005 grant competition only.

Program Authority: 20 U.S.C. 6775.

Applicable Regulations: (a) The Education Department General Administrative Regulations (EDGAR) in 34 CFR parts 74, 75, 77, 79, 81, 82, 84, 85, 86, 97, 98, and 99. (b) The notice of final priority for Scientifically Based Evaluation Methods, published in the Federal Register on January 25, 2005 (70 FR 3586).

Note: The regulations in 34 CFR part 79 apply to all applicants except federally recognized Indian tribes.

Note: The regulations in 34 CFR part 86 apply to institutions of higher education only.

II. Award Information

Type of Award: Cooperative agreement.

Estimated Available Funds: $23,312,000.

Estimated Range of Awards: Programming Projects—$10,000,000-$20,000,000; Outreach Project—$2,000,000-$4,000,000.

Estimated Average Size of Awards: Programming Projects—$10,000,000; Outreach Project—$3,500,000.

Estimated Number of Awards: Programming Projects—1-2; Outreach Project—1.

Note: The Department is not bound by any estimates in this notice.

Project Period: Up to 60 months.

III. Eligibility Information

1. Eligible Applicants: To receive a cooperative agreement under this competition, an entity shall be a public telecommunications entity that is able to demonstrate each of the following:

(A) A capacity to develop and nationally distribute educational and instructional television programming of high quality that is accessible by a large majority of disadvantaged preschool and elementary school children.

(B) A capacity to contract with the producers of children's television programming for the purpose of developing educational television programming of high quality.

(C) A capacity, consistent with the entity's mission and nonprofit nature, to negotiate such contracts in a manner that returns to the entity an appropriate share of any ancillary income from sales of any program-related products.

(D) A capacity to localize programming and materials to meet specific State and local needs and to provide educational outreach at the local level.

Note: The term public telecommunications entity means any enterprise which (a) is a public broadcast station or a noncommercial telecommunications entity; and (b) disseminates public telecommunications services to the public.

2. Cost Sharing or Matching: This competition does not involve cost sharing or matching.

IV. Application and Submission Information

1. Address to Request Application Package: You may obtain an application package via Internet or from the Education Publications Center (ED Pubs). To obtain a copy via Internet use the following address: http://www.ed.gov/fundgrant/apply/grantapps/index. To obtain a copy from ED Pubs, write or call the following: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.295A or 84.295B, as appropriate.

Individuals with disabilities may obtain a copy of the application package in an alternative format (e.g., Braille, large print, audiotape, or computer diskette) by contacting the program contact person listed elsewhere in this notice under For Further Information Contact (see VII. Agency Contacts).

2. Content and Form of Application Submission: Requirements concerning the content of an application, together with the forms you must submit, are in the application package for this competition.

Notice of Intent to Apply: Applicants that plan to apply for funding under this competition are encouraged to indicate an intent to apply via e-mail notification sent to ReadytoLearnintent@ed.gov no later than April 13, 2005. Applicants that fail to supply this e-mail notification may still apply for funding under this notice.

Page Limit for Program Narrative: The program narrative is where you, the applicant, address the selection criteria (i.e., within the context of the absolute priority) using the following standards:

• A “page” is 8.5″ x 11″, on one side only, with 1″ margins at the top, bottom, and both sides.

• Double space (no more than three lines per vertical inch) all text in the program narrative, including titles, headings, footnotes, quotations, references, and captions, as well as all text in charts, tables, figures, and graphs.

• Use a font that is either 12-point or larger or no smaller than 10 pitch (characters per inch).

Although no page limit is required, applicants are encouraged to confine the program narrative to no more than 50 pages.

3. Submission Dates and Times:

Applications Available: March 15, 2005.

Deadline for Notice of Intent to Apply: April 13, 2005.

Deadline for Transmittal of Applications: May 13, 2005.

Applications for grants under this competition must be submitted electronically using the Grants.gov Apply site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: July 12, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted electronically unless you qualify for an exception to this requirement in accordance with the instructions in this section.

a. Electronic Submission of Applications.

Applications for grants under the Ready-To-Learn program—CFDA Number 84.295A and 84.295B must be submitted electronically using the Grants.gov Apply site. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for RTL at: http://www.grants.gov. You must search for the downloadable application package for this competition by the CFDA number. Do not include the CFDA number's alpha suffix in your search.

Please note the following:

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. Any narrative sections of your application should be attached as files in a .DOC (document), .RTF (rich text), or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Joseph Caliguro, U.S. Department of Education, 400 Maryland Avenue, SW., room 4W212, Washington, DC 20202-5900. FAX: (202) 205-5720.

Your paper application must be submitted in accordance with the mail or hand delivery instructions described in this notice.

b. Submission of Paper Applications by Mail.

If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: (CFDA Number 84.295A or 84.295B), 400 Maryland Avenue, SW., Washington, DC 20202-4260

or

By mail through a commercial carrier: U.S. Department of Education, Application Control Center—Stop 4260, Attention: (CFDA Number 84.295A or 84.295B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.295A or 84.295B), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210. These selection criteria apply to the absolute priority only. The maximum score for all of the selection criteria is 100 points. The maximum score for each criterion is indicated in parentheses with the criterion.

Except where specifically indicated, the “Notes” we have included after each criterion are guidance to help applicants in preparing their applications and are not required by statute or regulation. The criteria are as follows:

(a) Need for the project (15 Points). The Secretary considers the need for the proposed project. In determining the need for the proposed project, the Secretary considers the following factors:

(1) The magnitude of the need for the services to be provided or the activities to be carried out by the proposed project.

(2) The extent to which the proposed project will focus on serving or otherwise addressing the needs of disadvantaged individuals.

Note: Applicants should provide information concerning the current gap in the quality and quantity of television programming that rests on scientifically based reading research and is designed for the targeted population and propose strategies designed to close that gap. Furthermore, applicants responding to Absolute Priority One must describe how scientifically based reading instruction and academic content will be incorporated into the proposed programming to facilitate success in school for low-income children. In responding to both priorities, applicants should note that low-income children and their families are the target population under this competition.

(b) Quality of the project design (20 Points). The Secretary considers the quality of the design of the proposed project. In determining the quality of the design of the proposed project, the Secretary considers the following factors:

(1) The extent to which the design of the proposed project reflects up-to-date knowledge from research and effective practice.

(2) The extent to which the proposed project will establish linkages with other appropriate agencies and organizations providing services to the target population.

(3) The extent to which the proposed project encourages parental involvement.

Note: Applicants should include a thorough, high-quality review of the relevant literature, a high-quality plan for project implementation, and a description of how appropriate methodological tools will be used to assess the impact of the proposed activities on enhancing the scientifically based reading research skills of targeted low-income children.

(c) Quality of project services (15 Points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The likelihood that the services to be provided by the proposed project will lead to improvements in the achievement of students as measured against rigorous academic standards.

(2) The extent to which the services to be provided by the proposed project involve the collaboration of appropriate partners for maximizing the effectiveness of project services.

(d) Quality of project personnel (10 Points). The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of key project personnel.

(2) The qualifications, including relevant training and experience, of project consultants or subcontractors.

Note: An applicant submitting under Absolute Priority One (84.295A) must include as key personnel an expert in scientifically based reading instruction who will devote no less than 25% of his or her time to the overall guidance and direction of the program.

(f) Adequacy of resources (10 Points). The Secretary considers the adequacy of resources for the proposed project. In determining the adequacy of resources for the proposed project, the Secretary considers the following factors:

(1) The extent to which the budget is adequate to support the proposed project.

(2) The extent to which the costs are reasonable in relation to the objectives, design, and potential significance of the proposed project.

(g) Quality of the management plan (10 Points). The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The adequacy of procedures for ensuring feedback and continuous improvement in the operation of the proposed project.

(h) Quality of the project evaluation (20 Points). The Secretary considers the quality of the evaluation to be conducted of the proposed project. In determining the quality of the evaluation, the Secretary considers the following factor:

(1) The extent to which the methods of evaluation include the use of objective performance measures that are clearly related to the intended outcomes of the project and will produce quantitative and qualitative data to the extent possible.

Note: A strong evaluation plan should be included in the application narrative and should be used, as appropriate, to shape the development of the project from the beginning of the grant period. The plan should include benchmarks to monitor progress toward specific project objectives and also outcome measures to assess the impact on teaching and learning or other important outcomes for project participants. More specifically, the plan should identify the individual and/or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and effective strategies for replication in other settings. Applicants are encouraged to devote 25-30% of the grant funds to project evaluation under Absolute Priority One and 10% of the grant funds to project evaluation under Absolute Priority Two.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants approved for funding under this competition may be required to attend a two- or three-day Grants Administration meeting in Washington, DC during the first year of the grant. In addition, applicants should budget for one Project Directors meeting to be held in Washington, DC in each subsequent year of the grant. The cost of attending these meetings may be paid from RTL program grant funds or other resources.

4. Reporting: At the end of your project period, you must submit a final performance report, including financial information, as directed by the Secretary. If you receive a multi-year award, you must submit an annual performance report that meets the reporting requirements in section 2431(c)(1) of the ESEA, as amended by NCLB, and provides the most current performance and financial expenditure information as specified by the Secretary in 34 CFR 75.118. For specific requirements on grantee reporting, please go to http://www.ed.gov/fund/grant/apply/appforms/appforms.html.

5. Performance Measures: The Department is currently developing measures that will be designed to yield information on the effectiveness of grant supported activities (e.g., the extent to which children ages 3 to 6 years old who view scientifically based RTL shows demonstrate expressive vocabulary and emergent literacy skills at or above national norms). If funded, applicants will be expected to participate in collecting and reporting data for these measures. We will notify grantees of the performance measures once they are developed.

VII. Agency Contacts

For Further Information Contact: Joseph Caliguro or Norma Fleischman, U.S. Department of Education, 400 Maryland Avenue, SW., Washington, DC 20202-5900. Telephone: (202) 205-5449 (Joe Caliguro) or (202) 205-5482 (Norma Fleischman), or by e-mail: Joseph.Caliguro@ed.gov or Norma.Fleischman@ed.gov.

If you use a telecommunications device for the deaf (TDD), you may call the Federal Relay Service (FRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 9, 2005.
Michael J. Petrilli,
Acting Assistant Deputy Secretary for Innovation and Improvement.

[FR Doc. 05-4978 Filed 3-11-05; 8:45 am]

BILLING CODE 4000-01-P